DEPARTMENT OF TRANSPORTATION

Federal Motor Carrier Safety Administration

[Docket No. FMCSA-2010-0083; FMCSA-2010-0115; FMCSA-2010-0138; FMCSA-2012-0108; FMCSA-2012-0109; FMCSA-2014-0016; FMCSA-2014-0017]

Qualification of Drivers; Exemption Applications; Diabetes

AGENCY: Federal Motor Carrier Safety Administration (FMCSA), DOT.

ACTION: Notice of final disposition.

SUMMARY: FMCSA announces its decision to renew exemptions of 174 individuals from its prohibition in the Federal Motor Carrier Safety Regulations (FMCSRs) against persons with insulin-treated diabetes mellitus (ITDM) from operating commercial motor vehicles (CMVs) in interstate commerce. The exemptions enable these individuals with ITDM to continue to operate CMVs in interstate commerce.

DATES: Each group of renewed exemptions was effective on the dates stated in the discussions below and will expire on the dates stated in the discussions below.

FOR FURTHER INFORMATION CONTACT: Ms. Christine A. Hydock, Chief, Medical Programs Division, 202-366-4001, fmcsamedical@dot.gov, FMCSA, Department of Transportation, 1200 New Jersey Avenue SE., Room W64-224, Washington, DC 20590-0001. Office hours are from 8 a.m. to 5:30 p.m., e.t., Monday through Friday, except Federal holidays. If you have questions regarding viewing or submitting material to the docket, contact Docket Services, telephone (202) 366-9826.

SUPPLEMENTARY INFORMATION:

I. Electronic Access

You may see all the comments online through the Federal Document Management System (FDMS) at: http://www.regulations.gov.

Docket: For access to the docket to read background documents or comments, go to http://www.regulations.gov and/or Room W12-140 on the ground level of the West Building, 1200 New Jersey Avenue SE., Washington, DC, between 9 a.m. and 5 p.m., e.t., Monday through Friday, except Federal holidays.

Privacy Act: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

II. Background

On December 20, 2016, FMCSA published a notice announcing its decision to renew exemptions for 174 individuals from the insulin-treated diabetes mellitus prohibition in 49 CFR 391.41(b)(3) to operate a CMV in interstate commerce and requested comments from the public (81 FR 92949). The public comment period ended on January 19, 2017, and no comments were received.

As stated in the previous notice, FMCSA has evaluated the eligibility of these applicants and determined that renewing these exemptions would achieve a level of safety equivalent to or greater than the level that would be achieved by complying with the current regulation 49 CFR 391.41(b)(3).

The physical qualification standard for drivers regarding diabetes found in 49 CFR 391.41(b)(3) states that a person is physically qualified to drive a CMV if that person has no established medical history or clinical diagnosis of diabetes mellitus currently requiring insulin for control.

III. Discussion of Comments

FMCSA received no comments in this preceding.

IV. Conclusion

Based upon its evaluation of the 174 renewal exemption applications and that no comments were received, FMCSA confirms its' decision to exempt the following drivers from the rule prohibiting drivers with ITDM from driving CMVs in interstate commerce in 49 CFR 391.41(b)(3):

As of July 2, 2016, and in accordance with 49 U.S.C. 31136(e) and 31315, the following 30 individuals have satisfied the renewal conditions for obtaining an exemption from the rule prohibiting drivers with ITDM from driving CMVs in interstate commerce (75 FR 25919; 75 FR 28677; 75 FR 38597; 75 FR 38598):

Spencer W. Alexander (UT)

Cody R. Anderson (MT)

Ronnie L. Barker (GA)

Joseph P. Beagan (RI)

Brian C. Blevins (VA)

John M. Charlton (UT)

Stuart A. Dietz (KS)

Michael G. Eikenberry (IN)

Francisco K. Gallardo (AZ)

Devin S. Gibson (UT)

Jason C. Green (MS)

Kimmy D. Hall (AR)

Edward G. Harbin (AR)

Lewis M. Hendershott (NJ)

Mark E. Henning (NY)

Christopher M. Hultman (WI)

Duane K. Kohls (MN)

John F. Lohmuller (IN)

Jerry A. McMurdy (PA)

Steven L. Miller (ND)

H. A. Miller (OR)

Andrew D. Monson (MN)

Timothy J. Nowak (FL)

Peter J. Pendola (VA)

Ross R. Romano (MI)

Max S. Sklarski (NM)

Jason D. Sweet (CA)

Robert M. Thomson (IL)

James P. Tomasik (PA)

Joseph H. Watkins (IN)

The drivers were included in one of the following docket Nos: FMCSA-2010-0083; FMCSA-2010-0115. Their exemptions are effective as of July 2, 2016, and will expire on July 2, 2018.

As of July 22, 2016, and in accordance with 49 U.S.C. 31136(e) and 31315, the following 44 individuals have satisfied the renewal conditions for obtaining an exemption from the rule prohibiting drivers with ITDM from driving CMVs in interstate commerce (79 FR 29484; 79 FR 42628):

Curtis D. Andersen (MT)

Thomas E. Armburst (IL)

Michael A. Barrett (MI)

Jerry G. Clise Jr. (MD)

Richard K. Cressman (ND)

Steven W. Dahl (ND)

Shannon D. Eck (KS)

Manuel Fernandez (PA)

Kevin J. Franje (IA)

Michael E. Goldsberry (VA)

Jared P. Greene (OH)

Michael L. Jobe (PA)

Edwin P. Jonas, II (PA)

David W. Jones (MD)

John J. Katcher (CO)

Glenn T. Keller (PA)

Michael G. Keller (CA)

Jay T. Kirschmann (ND)

James L. Laufenberg (ND)

James R. Longo (MD)

Erik M. Mardesen (IA)

Earl W. Meadows (WV)

Ralph H. Mills (MA)

Matthew C. Moberly (KY)

Brant S. Perry (TX)

Zachary A. Petitt (TX)

James W. Restuccio Jr. (NJ)

Pedro Saavedra Garcia (CA)

David Salmond (UT)

Jerry J. Shipley (KS)

Glenn A. Skonberg (SD)

Douglas R. Smith (KS)

Cheryl G. Stephens (DE)

James F. Stewart (PA)

Martin T. Struthers (NE)

Dennis C. Svec (MI)

Larry L. Taff (AR)

Filbert J. Torres (NM)

Jennifer A. Tyson (PA)

Burdette Walker (PA)

Jacob D. Walter (PA)

Richard E. Watkins (NY)

Harold W. Wilson Jr. (SC)

Ronald D. Young (GA)

The drivers were included in docket No. FMCSA-2014-0016. Their exemptions are effective as of July 22, 2016, and will expire on July 22, 2018.

As of July 24, 2016, and in accordance with 49 U.S.C. 31136(e) and 31315, the following 18 individuals have satisfied the renewal conditions for obtaining an exemption from the rule prohibiting drivers with ITDM from driving CMVs in interstate commerce (77 FR 33554; 77 FR 43417):

Jack D. Alt (NH)

Tony O. Billman (PA)

Tracy M. Dowton (MT)

Anil D. Gharmalker (KS)

Larry A. Hamilton (MO)

Allen K. Kates (NJ)

Andrew L. Lyman (PA)

Nancy A. Plunk (MO)

Victor C. Port (ND)

Scott D. Roles (MN)

Jeffrey A. Ryan (IA)

Keith A. Siekmeier (AK)

Tom L. Simmons (IA)

James H. Stichberry, Jr. (MD)

Loyd J. Wagner (MO)

John F. Watson (IN)

Melvin E. Welch (NJ)

Leroy R. Wille (IA)

The drivers were included in docket No: FMCSA-2012-0109. Their exemptions are effective as of July 24, 2016, and will expire on July 24, 2018.

As of July 25, 2016, and in accordance with 49 U.S.C. 31136(e) and 31315, the following 55 individuals have satisfied the renewal conditions for obtaining an exemption from the rule prohibiting drivers with ITDM from driving CMVs in interstate commerce (79 FR 35844; 79 FR 51223):

Todd Y. Albright (MT)

John H. Ascheman (MN)

Robert M. Borunda (CA)

Alan F. Brown Jr. (IN)

Theodore W. Burnette (CA)

John Canal (NY)

Anthony C. Cole (WY)

Kevin G. Comstock (MN)

Jacob S. Crawford (GA)

Christopher Dave (MI)

Anthony J. Davis (IN)

Justin J. Day (SD)

Charles G. Denegal (WA)

Wayne H. Dirks (WA)

Charles G. Elliott (IN)

Joseph S. Farrow (MN)

James R. Fiecke (ND)

Eric C. Gambill (OH)

Mark P. Gerrits (WI)

Michael Gilon (NH)

Chance A. Gooch (GA)

Robert L. Harris (IN)

Darrell S. Haynes (PA)

Joseph D. Helget (OR)

Charles D. Henderson (NY)

Marvin S. Howard (OH)

Eric A. Knox (KY)

Erik M. Lindquist (WA)

Thomas K. Linkel (IN)

Christine I. Llewellyn (IL)

Ryan A. Malandrone (WI)

Thomas J. Manning (MN)

Steve A. Meharry (WA)

Robert A. Miller Jr. (WV)

Ben G. Moore (IL)

Chad M. Morris (NY)

Paul C. Mortenson (WI)

William D. Murray (AL)

Jacob D. Nafziger (OH)

Edward T. Nauer (VA)

Keith W. Nichols (TX)

Colin R. Parmelee (IN)

Matthew P. Sczpanski (OH)

Anthony S. Sobreiro (NJ)

Colby E. Starner (PA)

Daniel E. Stephens (NY)

Bartholomew Taliaferro (PA)

Johnathan D. Truitt (IL)

Rylan P. Wheeler (IL)

Gordon J. White (MO)

Kelly L. Whitley (NC)

Jerry R. Williams (GA)

Charles L. Wojton (PA)

Michelle L. York (WA)

Steven L. Zimmer (OH)

The drivers were included in docket No: FMCSA-2014-0017. Their exemptions are effective as of July 25, 2016, and will expire on July 25, 2018.

As of July 26, 2016, and in accordance with 49 U.S.C. 31136(e) and 31315, the following 15 individuals have satisfied the renewal conditions for obtaining an exemption from the rule prohibiting drivers with ITDM from driving CMVs in interstate commerce (77 FR 33551; 77 FR 43901):

Larry J. Anderson (MN)

Wade D. Calvin (WA)

Carl A. Candelaria (NM)

Owen R. Dossett (AL)

Jennifer A. Ferguson (SC)

Michael E. Fritz (NV)

Lee A. Haerterich (WI)

Eric W. Holland (CO)

Richard P. Holmen (MN)

Edward Jones (GA)

Paul A. Lacina (ND)

Bradley J. Moore (MO)

Ross W. Petermann (MN)

Randall J. Tatum (MA)

Curtis J. Young (FL)

The drivers were included in docket No. FMCSA-2012-0108. Their exemptions are effective as of July 26, 2016, and will expire on July 26, 2018.

As of July 27, 2016, and in accordance with 49 U.S.C. 31136(e) and 31315, the following 12 individuals have satisfied the renewal conditions for obtaining an exemption from the rule prohibiting drivers with ITDM from driving CMVs in interstate commerce (75 FR 34206; 75 FR 44049):

Clinton R. Carlson II (RI)

Brandon L. Cheek (NC)

Richard A. Dufton, Jr. (NH)

Kenneth Dunn (IN)

Robert J. Dyxin (IL)

Michael H. Hayden (NY)

John T. Jones (OK)

Blake A.S. Keeten (NE)

Randall L. Koegel (NY)

Worden T. Price (NC)

Gary L. Sager (IL)

Darrel D. Schroeder (KS)

The drivers were included in docket No: FMCSA-2010-0138. Their exemptions are effective as of July 27, 2016, and will expire on July 27, 2018.

In accordance with 49 U.S.C. 31315, each exemption will be valid for two years from the effective date unless revoked earlier by FMCSA. The exemption will be revoked if the following occurs: (1) The person fails to comply with the terms and conditions of the exemption; (2) the exemption has resulted in a lower level of safety than was maintained prior to being granted; or (3) continuation of the exemption would not be consistent with the goals and objectives of 49 U.S.C. 31136 and 31315.

Issued on: March 1, 2017.
Larry W. Minor,
Associate Administrator for Policy.

[FR Doc. 2017-04687 Filed 3-8-17; 8:45 am]

BILLING CODE 4910-EX-P